DEPARTMENT OF COMMERCE

National Oceanic and Atmospheric Administration

[RTID 0648-XD113]

Mid-Atlantic Fishery Management Council (MAFMC); Public Meeting

AGENCY: National Marine Fisheries Service (NMFS), National Oceanic and Atmospheric Administration (NOAA), Commerce.

ACTION: Notice; public meeting.

SUMMARY: The MAFMC will hold a public joint meeting (webinar) of its River Herring and Shad (RH/S) Committee and Advisory Panel to review recent RH/S developments and develop recommendations for the MAFMC, including for the Atlantic mackerel fishery's RH/S cap.

DATES: The meeting will be held on Thursday, July 13, 2023, from 9 a.m. to 1 p.m.

ADDRESSES: Webinar connection information will be posted to the calendar prior to the meeting at www.mafmc.org.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The RH/S Committee and Advisory Panel will review updated information on RH/S per the RH/S Update format last reviewed in October 2021. Recent publications regarding RH/S bycatch will also be reviewed. The Committee and Advisory Panel members will make recommendations including for the Atlantic mackerel fishery's RH/S cap, which is set by the MAFMC when catch limits for Atlantic mackerel are adopted. Public comments will also be taken.

Special Accommodations

The meeting is physically accessible to people with disabilities. Requests for sign language interpretation or other auxiliary aid should be directed to Shelley Spedden, (302) 526-5251, at least 5 days prior to the meeting date.

Authority: 16 U.S.C. 1801 et seq.

Dated: June 23, 2023.
Rey Israel Marquez,
Acting Deputy Director, Office of Sustainable Fisheries, National Marine Fisheries Service.

[FR Doc. 2023-13772 Filed 6-27-23; 8:45 am]

BILLING CODE 3510-22-P